SMALL BUSINESS ADMINISTRATION

[Declaration of Economic Injury Disaster #9V83]

State of North Carolina

Caldwell and Watauga Counties and the contiguous counties of Alexander, Ashe, Avery, Burke, Catawba and Wilkes in the State of North Carolina; and Johnson County in the State of Tennessee constitute an economic injury disaster loan area as a result of the closure of a section of U.S. Highway 321 from April 10 to May 9, 2003 due to floodwaters. Eligible small businesses and small agricultural cooperatives without credit available elsewhere may file applications for economic injury assistance as a result of this disaster until the close of business on March 15, 2004 at the address listed below or other locally announced locations: U.S. Small Business Administration, Disaster Area 2 Office, One Baltimore Place, Suite 300, Atlanta, GA 30308.

The interest rate for eligible small businesses and small agricultural cooperatives is 3.189 percent. The number assigned for economic injury for this disaster is 9V8300 for North Carolina; and 9V8400 for Tennessee.

(Catalog of Federal Domestic Assistance Program No. 59002)
Dated: June 13, 2003.
Hector V. Barreto,
Administrator.

[FR Doc. 03-15810 Filed 6-20-03; 8:45 am]

BILLING CODE 8025-01-P